DEPARTMENT OF ENERGY

Federal Energy Regulatory Commission

[Docket No. CP07-405-000]

Texas Gas Transmission, LLC; Notice of Filing

December 6, 2007.

Take notice that on December 4, 2007, Texas Gas Transmission, LLC (Texas Gas), 3800 Frederica Street, Owensboro, Kentucky 42301, pursuant to section 7 of the Natural Gas Act (NGA) and Part 157 of the Commission's Rules and Regulations, filed a supplement to amend its application originally filed June 25, 2007. Texas Gas requests authority to increase the proposed storage capacity from 2 Bcf to 5.31 Bcf, in the event that the Commission does not authorize Texas Gas to charge market based rates for the new capacity of 8.25 Bcf as proposed in the original application. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Since filing its original application, Texas Gas has entered into a second Precedent Agreement for additional 3.05 Bcf of firm storage service for a 10-year term at a fixed negotiated rate. Texas Gas requests authority to construct the additional facilities required to create the approximately 5.31 Bcf of new storage capacity as followed:

—Construct approximately 11 miles of 30-inch mainline pipeline loop from the Midland 3 Compressor Station to a point near Hanson, Kentucky;

—Construct a 2,900 foot extension of the E-9 storage lateral at Midland;

—Drill seven horizontal injection/withdrawal wells and related facilities at Midland;

—Install one 5,488 HP gas turbine and related facilities at the Midland 3 Compressor Station;

—Abandon in-place two existing 2,000 HP compressor units, including appurtenant facilities, at the Midland 3 Compressor Station.

Texas Gas proposes the service date of November 1, 2008 for the 5.31 Bcf-expansion.

Any questions regarding the application are to be directed to Kathy D. Fort, Manager of Certificates and Tariffs, Texas Gas Transmission, LLC, 3800 Frederica Street, Owensboro, Kentucky, 42301.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's web site under the “e-Filing” link. The Commission strongly encourages electronic filings.

Comment Date: December 20, 2007.

Kimberly D. Bose,
Secretary.

[FR Doc. E7-24091 Filed 12-12-07; 8:45 am]

BILLING CODE 6717-01-P